DEPARTMENT OF HOUSING AND URBAN DEVELOPMENT

[Docket No. FR-6035-N-04]

Notice of Regulatory Waiver Requests Granted for the Fourth Quarter of Calendar Year 2017; Notice

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2017, and ending on December 31, 2017.

FOR FURTHER INFORMATION CONTACT: For general information about this notice, contact Ariel Pereira, Associate General Counsel for Legislation and Regulations, Department of Housing and Urban Development, 451 Seventh Street SW, Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2017.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2017 through December 30, 2017. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2017) before the next report is published (the first quarter of calendar year 2018), HUD will include any additional waivers granted for the fourth quarter in the next report.

Accordingly, information about approved waiver requests pertaining to HUD regulations is provided in the Appendix that follows this notice.

Dated: April 5, 2018.
J. Paul Compton, Jr.,
General Counsel.

APPENDIX

Listing of Waivers of Regulatory Requirements Granted by Offices of the Department of Housing and Urban Development October 1, 2017 through December 30, 2017

Note to Reader: More information about the granting of these waivers, including a copy of the waiver request and approval, may be obtained by contacting the person whose name is listed as the contact person directly after each set of regulatory waivers granted. The regulatory waivers granted appear in the following order:

I. Regulatory waivers granted by the Office of Community Planning and Development.

II. Regulatory waivers granted by the Office of Housing.

III. Regulatory waivers granted by the Office of Public and Indian Housing.

I. Regulatory waivers granted by the Office of Community Planning and Development

For further information about the following regulatory waivers, please see the name of the contact person that immediately follows the description of the waiver granted.

• Regulation: 24 CFR 58.22(a).

Project/Activity: HUD Grantee/Cities of Eugene and Springfield, Oregon—Glenwood Place Project, Springfield, OR.

Nature of Requirement: Section 58.22(a) provides that “Neither a recipient nor any participant in the development process, including public or private nonprofit or for-profit entities, or any of their contractors, may commit HUD assistance under a program listed in Sec. 58.1(b) on an activity or project until HUD or the state has approved the recipient's RROF and the related certification from the responsible entity. “In addition, until the RROF and the related certification have been approved, neither a recipient nor any participant in the development process may commit non-HUD funds on or undertake an activity or project under a program listed in Sec. 58.1(b) if the activity or project would have an adverse environmental impact or limit the choice of reasonable alternatives.”

Granted By: Neal Rackleff, Assistant Secretary for Community Planning and Development.

Date Granted: December 12, 2017

Reason Waived: The Office of Environment and Energy determined in accordance with 24 CFR 58.1(d), that good cause exist to waive the second sentence of 24 CFR 58.22(a) requiring advance approval of an RROF and the related certification before non-HUD funds may be expended or a choice-limiting activity undertaken. The HUD Region 10 Regional Environment Officer also recommended this waiver for approval.

In accordance with 24 CFR 58.1(d), the OEE submits that there is good cause for waiving the second sentence of 24 CFR 58.22(a) in that:

(1) The above project will further the HUD mission. It will advance HUD program goals to create strong, sustainable, inclusive communities. The project will remove blighted structures from the community and reduce the risk to public health from soil contamination left by previous uses.

(2) No HUD funds were committed or spent. CPD staff confirmed that no HUD funds have been drawn down by the grantees for projects.

(3) Based on the environmental assessment conducted, reviewed, and approved by the City of Eugene, Oregon and the City of Springfield, Oregon and the HUD field inspection, there is agreement that no adverse environmental impacts exist.

(4) The State Historic Preservation Officer determined in November 2014, that the demolition of the existing home on the property did not represent an adverse effect on a historic property.

(5) The staff of the Housing and Community Services Agency of Lane County and the Cities of Springfield and Eugene have attended training by the Regional Environmental Officer for Region 10 to better understand the role of environmental reviews in the grantmaking process.

Contact: James M. Potter, Environmental Planning Division, Office of Community Planning and Development, Department of Housing and Urban Development, 451 Seventh Street SW, Room 7212, Washington, DC 20410, telephone (202) 402-4610.

• Regulation: 24 CFR 91.105(c)(2) and (k).

Project/Activity: Citizen Participation Plan Requirements San Diego County, California, requested a waiver of the 30-day public comment period for substantial amendments to the Consolidated Plan required by 24 CFR 91.105(c)(2) and (k) to allow the county to address a critical health issue in a timely manner.

Nature of Requirement: In accordance with 24 CFR 91.105(c)(2) and (k), a grantee may amend an approved Consolidated Plan, such as the addition of new activities, subject to the citizen participation process in a grantee's citizen participation plan. The citizen participation plan must provide citizens with not less than 30 days to comment on substantial amendments.

Granted By: Neal J. Rackleff, Assistant Secretary for Community Planning and Development.

Date Granted: October 27, 2017.

Reason Waived: The county was experiencing a severe hepatitis A outbreak linked to the unsanitary conditions in homeless encampments throughout the county. To address the hepatitis A epidemic, the county wished to amend its Consolidated Plan to enable it to use HOME funds to provide tenant-based rental assistance to homeless individuals. Under the citizen participation plan requirements at 24 CFR 91.105(c)(1)(i), the county's revision to its Consolidated Plan constituted a substantial amendment requiring the county to provide at least a 30-day public comment period. The Department waived 24 CFR 91.105(c)(2) and (k) to permit the county to reduce the public comment period from 30 to seven days to balance the need to quickly address a public health crisis with the requirement to provide a reasonable notice and opportunity to comment on the proposed use of HOME funds.

Contact: Virginia Sardone, Director, Office of Affordable Housing Programs, Office of Community Planning and Development, Department of Housing and Urban Development, 451 Seventh Street SW, Room 10170, Washington, DC 20410, telephone (202) 708-2684.

• Regulation: 24 CFR 91.105(c)(2) and (k), 24 CFR 91.115(c)(2) and (i) and 24 CFR 91.401.

Project/Activity: Numerous communities throughout the southern United States extending from Texas to the Caribbean experienced substantial property damage resulting from Hurricanes Harvey, Irma, and Maria from August through September 2017. Starting in late August, 2017, the Federal Emergency Management Agency (FEMA) issued disaster declarations covering multiple cities and counties in Texas, the entire states of Florida and Georgia, the U.S. Virgin Islands and the Commonwealth of Puerto Rico. Grantees seeking to facilitate assistance for eligible communities and families affected by the hurricanes requested the ability to shorten their citizen comment periods to seven days so that they may quickly reallocate Community Development Block Grant (CDBG), HOME Investment Partnerships Program (HOME), Housing Opportunities for Persons With AIDS (HOPWA), and Emergency Solutions Grant (ESG) funds.

Nature of Requirement: The regulations at 24 CFR 91.105(c)(2) and (k), 24 CFR 91.115(c)(2) and (i) and 24 CFR 91.401 require a 30-day public comment period prior to the implementation of a substantial amendment.

Granted By: Neal Rackleff, Assistant Secretary for Community Planning and Development.

Date Granted: October 13, 2017.

Reason Waived: Several CPD grantees were affected by Hurricanes Harvey, Irma, and Maria that caused severe flooding and wind damage resulting in substantial property loss and destruction. Presidentially-declared disaster declarations were issued on August 25, 2017, (FEMA-DR-4332); September 10, 2017, (FEMA-DR-4336 and FEMA-DR-4337) and September 15, 2017, (FEMA-DR-4338); and September 20, 2017, (FEMA-DR-4339) for Hurricanes Harvey, Irma, and Maria, respectively. The waiver granted will allow grantees to expedite recovery efforts for low and moderate income residents affected by the flooding and severe wind damage from these events.

Contact: Steve Johnson, Director, Entitlement Communities Division, Office of Community Planning and Development, Department of Housing and Urban Development, 451 Seventh Street SW, Room 7282, Washington, DC 20410, telephone (202) 402-4548.

• Regulation: 24 CFR 91.105(c)(2) and (k) and 24 CFR 91.115(c)(2) and (i).

Project/Activity: The Commonwealth of Puerto Rico and the U.S. Virgin Islands experienced substantial property damage resulting from Hurricanes Irma and Maria in September 2017. Starting in early September, 2017, the Federal Emergency Management Agency (FEMA) issued disaster declarations eventually covering the entire U.S. Virgin Islands and the Commonwealth of Puerto Rico. Grantees in these jurisdictions seeking to expedite assistance for residents and businesses affected by the hurricanes and to quickly reallocate CDBG, HOME, HOPWA, and ESG funds found property and living conditions made it difficult to provide reasonable notice in accordance with their citizen participation plans.

Nature of Requirement: The regulations at 24 CFR 91.105(c)(2) and (k) and 24 CFR 91.115(c)(2) and (i) require grantees to provide reasonable notice and opportunity to comment, in accordance with a grantee's citizen participation plan, for substantial amendments to the consolidated plan. The citizen participation plan must state how reasonable notice and opportunity to comment will be given.

Granted By: Neal Rackleff, Assistant Secretary for Community Planning and Development.

Date Granted: October 13, 2017.

Reason Waived: HUD recognizes that the destruction wrought by Hurricanes Irma and Maria make it difficult for impacted jurisdictions in the Commonwealth of Puerto Rico and the U.S. Virgin Islands to provide notice to their citizens in accordance with their citizen participation plans. Given these circumstances, HUD's waiver will allow these grantees to determine what constitutes reasonable notice and opportunity to comment on substantial amendments through the end of their 2017 program year.

Contact: Steve Johnson, Director, Entitlement Communities Division, Office of Community Planning and Development, Department of Housing and Urban Development, 451 Seventh Street SW., Room 7282, Washington, DC 20410, telephone (202) 402-4548.

• Regulation: 24 CFR 92.203(a)(1) and (2) and 24 CFR 92.64(a) (Virgin Islands)

Project/Activity: Several HOME participating jurisdictions were affected by Hurricanes Harvey, Irma, and Maria that caused severe flooding and wind damage resulting in substantial property loss and destruction. Presidentially-declared disaster declarations were issued on August 25, 2017, (FEMA-DR-4332); September 10, 2017, (FEMA-DR-4336 and FEMA-DR-4337) and September 15, 2017, (FEMA-DR-4338); and September 20, 2017, (FEMA-DR-4339) for Hurricanes Harvey, Irma, and Maria, respectively. Many families whose homes were destroyed or damaged by the hurricanes will not have any documentation of income, as required by the HOME regulations, and thus, will not be able to qualify for HOME assistance.

Nature of Requirements: 24 CFR 92.203(a)(1) and (2) and 24 CFR 92.64(a) require initial income determinations for HOME beneficiaries be made after examining source documents covering the most recent two months of family income.

Granted By: Neal J. Rackleff, Assistant Secretary for Community Planning and Development.

Date Granted: October 13, 2017.

Reason Waived: The waiver granted will allow participating jurisdictions to expedite recovery efforts for low and moderate income residents affected by the flooding and severe wind damage from these events by waiving the requirements that participating jurisdictions examine the most two recent months of source documents when performing initial income determinations for families that are displaced by the disaster (as documented by FEMA registration) whose income documentation was destroyed or made inaccessible by the hurricanes. Displaced families will have the ability to self-certify that they meet the income eligibility requirements for HOME assistance in lieu of source documentation. The waiver is in effect for the six months following October 13, 2017. Participating jurisdictions in these Presidentially-declared disaster areas that wish to exercise the flexibility provided by these waivers must notify the CPD Director in the local HUD Field Office in writing of their intention to do so.

Contact: Virginia Sardone, Director, Office of Affordable Housing Programs, Office of Community Planning and Development, Department of Housing and Urban Development, 451 Seventh Street SW, Room 10170, Washington, DC 20410, telephone (202) 708-2684.

• Regulation: 24 CFR 92.222(b).

Project/Activity: Several HOME participating jurisdictions were affected by Hurricanes Harvey, Irma, and Maria that caused severe flooding and wind damage resulting in substantial property loss and destruction. Presidentially-declared disaster declarations were issued on August 25, 2017, (FEMA-DR-4332); September 10, 2017, (FEMA-DR-4336 and FEMA-DR-4337) and September 15, 2017, (FEMA-DR-4338); and September 20, 2017, (FEMA-DR-4339) for Hurricanes Harvey, Irma, and Maria, respectively. This waiver will allow participating jurisdictions to focus their recovery efforts for low and moderate income residents affected by the flooding and severe wind damage by reducing their match requirement by 100% for FY 2017 and FY 2018.

Nature of Requirements: 24 CFR 92.222(b) requires that each fiscal year all HOME participating jurisdictions make contributions totaling a minimum of 25% of the HOME funds drawn from their HOME Investment Trust Fund Treasury account to housing that qualifies as affordable housing under the HOME program.

Granted By: Neal J. Rackleff, Assistant Secretary for Community Planning and Development.

Date Granted: October 13, 2017.

Reason Waived: HUD recognizes the urgent housing needs created by Hurricanes Harvey, Irma, and Maria, and the substantial financial impact faced by participating jurisdictions focused on recovery efforts. By reducing the match requirement by 100% during FY 2017 and FY 2018, HUD relieves the participating jurisdictions in the declared disaster areas from the need to identify and provide matching contributions to HOME projects. For State participating jurisdictions, this match reduction applies to HOME funds expended in the declared disaster area. Participating jurisdictions in these Presidentially-declared disaster areas that wish to exercise the flexibility provided by this waiver must notify the CPD Director in the local HUD Field Office in writing of their intention to do so.

Contact: Virginia Sardone, Director, Office of Affordable Housing Programs, Office of Community Planning and Development, Department of Housing and Urban Development, 451 Seventh Street SW, Room 10170, Washington, DC 20410, telephone (202) 708-2684.

• Regulation: 24 CFR 92.251 and 24 CFR 92.64(a) (Virgin Islands) Property Standards for HOME-assisted units.

Project/Activity: Several HOME participating jurisdictions were affected by Hurricanes Harvey, Irma, and Maria that caused severe flooding and wind damage resulting in substantial property loss and destruction. Presidentially-declared disaster declarations were issued on August 25, 2017, (FEMA-DR-4332); September 10, 2017, (FEMA-DR-4336 and FEMA-DR-4337) and September 15, 2017, (FEMA-DR-4338); and September 20, 2017, (FEMA-DR-4339) for Hurricanes Harvey, Irma, and Maria, respectively. This waiver will allow participating jurisdictions to meet critical housing needs of families whose housing was damaged and families who were displaced by the hurricanes by waiving applicable HUD property standard requirements for repair of properties damaged by the hurricanes.

Nature of Requirements: 24 CFR 92.251 and 24 CFR 92.64(a) require that housing assisted with HOME funds must meet property standards applicable to the type of activity undertaken, i.e., for homebuyer assistance, and state and local standards and codes or model codes for rehabilitation and new construction.

Granted By: Neal J. Rackleff, Assistant Secretary for Community Planning and Development.

Date Granted: October 13, 2017.

Reason Waived: HUD recognizes the urgent housing needs created by Hurricanes Harvey, Irma, and Maria. Waiving these provisions for housing units located in the declared disaster areas that were damaged by the hurricanes will allow participating jurisdictions to meet the critical housing needs of families affected by the storms. This waiver only applies to housing units located in the declared disaster area which were damaged by the disaster and to which HOME funds are committed within two years of October 13, 2017. Units will still be required to meet State and local health and safety codes, as well as lead housing safety regulations established in 24 CFR part 35. Participating jurisdictions in these Presidentially-declared disaster areas that wish to exercise the flexibility provided by this waiver must notify the CPD Director in the local HUD Field Office in writing of their intention to do so.

Contact: Virginia Sardone, Director, Office of Affordable Housing Programs, Office of Community Planning and Development, Department of Housing and Urban Development, 451 Seventh Street SW, Room 10170, Washington, DC 20410, telephone (202) 708-2684.

• Regulation: 24 CFR 92.500(d)(2)(i)(C).

Project/Activity: HOME Program Expenditure Requirement.

The city of Pasadena, California, requested a waiver of 24 CFR 92.500(d)(2)(i)(C) for its Fiscal Year 2012 HOME expenditure deadline to provide additional time to expend HOME funds it recently repaid to its HOME account and unexpected funds it received as program income.

Nature of Requirement: The regulation at 24 CFR 92.500(d)(2)(i)(C) requires a participating jurisdiction to expend its annual allocation of HOME funds within five years after HUD notifies the participating jurisdiction that HUD has executed the jurisdiction's HOME Investment Partnership Agreement.

Granted By: Neal J. Rackleff, Assistant Secretary for Community Planning and Development.

Date Granted: October 2, 2017.

Reason Waived: The city repaid $447,889 to its HOME account in November 2016 for ineligible expenditures and received $926,707 of unanticipated program income during its 2015 and 2016 HOME program years due to borrower refinancing and repayment of loans prior to maturity. A total of $1,374,596 was deposited in the city's HOME account, which is equivalent to almost three times the city's most recent HOME grant amount. The city had inadequate time to expend all the additional funds by its August 31, 2017, deadline, resulting in $626,541.82 being unexpended at the deadline. The waiver was granted to provide the city additional time to commit and expend these unanticipated funds.

Contact: Virginia Sardone, Director, Office of Affordable Housing Programs, Office of Community Planning and Development, Department of Housing and Urban Development, 451 Seventh Street SW, Room 10170, Washington, DC 20410, telephone (202) 708-2684.

• Regulation: 24 CFR 570.207(b)(4) (Entitlements) and 24 CFR 570.420(b)(3) (U.S. Virgin Islands).

Project/Activity: All Community Development Block Grant (CDBG) grantees located within and outside declared disaster areas assisting persons and families who have registered with FEMA in connection with Hurricanes Harvey, Irma, and Maria.

Nature of Requirement: The CDBG regulations at 24 CFR 570.420(b)(3) (U.S. Virgin Islands) make applicable 24 CFR 570.207(b)(4) (Entitlements), which prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Neal Rackleff, Assistant Secretary for Community Planning and Development.

Date Granted: October 13, 2017.

Reason Waived: HUD waives the provisions of 24 CFR 570.207(b)(4) and 24 CFR 570.420(b)(3) to permit emergency grant payments for items such as food, clothing, housing (rent or mortgage), or utilities for up to six consecutive months. While this waiver allows emergency grant payments to be made for up to six consecutive months, the payments must still be made to service providers as opposed to the affected individuals or families. Many individuals and families have been forced to abandon their homes due to the severe flooding, storm surge, damaging winds and rain associated with Hurricanes Harvey, Irma, and Maria. The waiver will allow CDBG grantees, including grantees providing assistance to evacuees outside the declared-disaster areas, to pay for the basic daily needs of individuals and families affected by the hurricane on an interim basis. This authority is in effect through the end of the grantee's 2018 program year.

Contact: Steve Johnson, Director, Entitlement Communities Division, Office of Community Planning and Development, Department of Housing and Urban Development, 451 Seventh Street SW., Room 7282, Washington, DC 20410, telephone (202) 402-4548.

• Regulation: 24 CFR 574.310(b).

Project/Activity: All Housing Opportunities for Persons with AIDS (HOPWA) grantees located in declared-disaster areas (FEMA-DR-4322, FEMA-DR-4335, FEMA-DR-4336, FEMA-DR-4337, FEMA-DR-4338, FEMA-DR-4339, and FEMA-DR-4340) stemming from Hurricanes Harvey, Irma, and Maria upon notification by the grantee to the Community Planning and Development Director in its respective HUD Field Office.

Nature of Requirement: HUD's regulation at 24 CFR 574.310(b) provides that units occupied by recipients of HOPWA Tenant-Based Rental Assistance (TBRA) meet the Housing Quality Standards (HQS) established in that section.

Granted By: Neal Rackleff, Assistant Secretary, Community Planning and Development.

Date Granted: October 13, 2017.

Reason Waived: Rental units in the declared-disaster areas experienced property damage from the severe flooding and devastating winds associated with Hurricanes Harvey, Irma, and Maria. The granted waiver allows HOPWA grantees and project sponsors to expeditiously meet the critical housing needs of the many eligible families affected by Hurricanes Harvey, Irma, and Maria in the declared disaster areas. The waiver only applies to units in the declared-disaster areas occupied by HOPWA beneficiaries and HOPWA-eligible families. Units must meet HOPWA HQS within 60 days.

Contact: Rita Flegel, Director, Office of HIV/AIDS Housing, Office of Community Planning and Development, Department of Housing and Urban Development, 451 Seventh Street SW, Room 7248, Washington, DC 20410, telephone (202) 402-5374.

• Regulation: 24 CFR 574.320(a)(2).

Project/Activity: All HOPWA grantees located in declared-disaster areas (FEMA-DR-4322, FEMA-DR-4335, FEMA-DR-4336, FEMA-DR-4337, FEMA-DR-4338, FEMA-DR-4339, and FEMA-DR-4340) stemming from Hurricanes Harvey, Irma, and Maria upon notification by the grantee to the Community Planning and Development Director in its respective HUD Field Office.

Nature of Requirement: HUD's regulation at 24 CFR 574.320(a)(2) provides that HOPWA grantees must establish rent standards for their TBRA programs based on Fair Market Rent. Generally, the TBRA payment may not exceed the difference between the rent standard and 30 percent of the family's adjusted income.

Granted By: Neal Rackleff, Assistant Secretary, Community Planning and Development.

Date Granted: October 13, 2017.

Reason Waived: Several HOPWA grantees and project sponsors were impacted by Hurricanes Harvey, Irma, and Maria. The waiver granted allows for expedited efforts to identify suitable housing units in the declared-disaster areas for rent to HOPWA beneficiaries and HOPWA-eligible families that have been affected by the hurricanes, and to provide assistance to families in the declared-disaster areas that must rent units at rates that exceed the HOPWA grantee's normal rent standard as calculated in accordance with 24 CFR 574.320(a)(2). Such rent standards are to be used only within the disaster-declared area in calculating the TBRA subsidy for families affected by Hurricanes Harvey, Irma, and Maria.

Contact: Rita Flegel, Director, Office of HIV/AIDS Housing, Office of Community Planning and Development, Department of Housing and Urban Development, 451 Seventh Street SW, Room 7248, Washington, DC 20410, telephone (202) 402-5374.

• Regulation: 24 CFR 574.530.

Project/Activity: All HOPWA grantees assisting families displaced by the disasters (FEMA-DR-4322, FEMA-DR-4335, FEMA-DR-4336, FEMA-DR-4337, FEMA-DR-4338, FEMA-DR-4339, and FEMA-DR-4340) stemming from Hurricanes Harvey, Irma, and Maria upon notification by the grantee to the Community Planning and Development Director in its respective HUD Field Office.

Nature of Requirement: HUD's regulation at 24 CFR 574.530 provides that each HOPWA grantee must maintain records to document compliance with HOPWA requirements, which includes determining the eligibility of a family to receive HOPWA assistance.

Granted By: Neal Rackleff Assistant Secretary, Community Planning and Development.

Date Granted: October 13, 2017.

Reason Waived: Many families whose homes have been destroyed or damaged by Hurricanes Harvey, Irma, or Maria will not have immediate access to documentation of income or medical records and, consequently, will not be able to document their eligibility for HOPWA assistance if the requirement remains effective. The waiver granted allows HOPWA grantees and project sponsors to rely upon a family member's self-certification of income and credible information on their HIV status (such as knowledge of their HIV-related medical care) in lieu of source documentation to determine eligibility for HOPWA assistance of families affected by the hurricanes. This waiver only applies to families displaced by the disasters that have registered with the Federal Emergency Management Agency (FEMA).

Contact: Rita Flegel, Director, Office of HIV/AIDS Housing, Office of Community Planning and Development, Department of Housing and Urban Development, 451 Seventh Street SW, Room 7248, Washington, DC 20410, telephone (202) 402-5374.

• Regulation: 24 CFR 576.105(a)(5), 576.105(b)(2), 576.106(a).

Project/Activity: HUD granted a waiver of 24 CFR 576.105(a)(5), 576.105(b)(2), 576.106(a) to States, the Commonwealth of Puerto Rico, the U.S. Virgin Islands, and other Emergency Solutions Grants (ESG) recipients located in the counties and county equivalents (islands of the U.S. Virgin Islands and municipalities of Puerto Rico) designated in the following major disaster declarations: FEMA-DR-4322, FEMA-DR-4335, FEMA-DR-4336, FEMA-DR-4337, FEMA-DR-4338, FEMA-DR-4339, FEMA-DR-4340. The waiver allows recipients and their subrecipients to exceed the required term limits on rental assistance and housing relocation and stabilization services to provide up to three consecutive years of rental assistance, utility payments, and housing stability case management, in addition to the 30 days of housing stability case management that may be provided before the move into permanent housing under 24 CFR 576.105(b)(2) for eligible individuals and families that: 1) live in a declared-disaster area or were displaced from a declared-disaster area as a result of the hurricanes and flooding; 2) have registered with FEMA; and 3) are currently receiving rental assistance or housing relocation or stabilization services or begin receiving rental assistance or housing relocation stabilization services within two years after the date of the waiver.

Nature of Requirement: The ESG regulation at 576.105(a)(5) prohibits a program participant from receiving more than 24 months of utility payments under ESG during any three-year period. Section 576.105(b)(2) limits the provision of housing stability case management to 30 days while the program participant is seeking permanent housing and 24 months while the program participant is living in permanent housing. Section 576.106(a) prohibits a program participant from receiving more than 24 months of ESG rental assistance during any three-year period.

Granted By: Neal Rackleff, Assistant Secretary for Community Planning and Development.

Date Granted: October 13, 2017.

Reason Waived: HUD granted the waiver to facilitate assistance to individuals and families affected by Hurricanes Harvey, Irma, and Maria. Specifically, waiving the 24-month limits on rental assistance, utility payments, and housing stability case management assistance will assist individuals and families, both those already receiving assistance and those who will receive assistance subsequent to the date of the waiver memorandum (October 13, 2017), to maintain stable permanent housing in place or in another area and help them return to their hometowns, as desired, when additional permanent housing is available. The waiver was conditioned on each ESG recipient providing HUD advance written notice of the declared disaster areas in which the recipient would use the waiver and the date on which the recipient planned to begin using the waiver.

Contact: Norm Suchar, Director, Office of Special Needs Assistance Programs, Office of Community Planning and Development, Department of Housing and Urban Development, 451 Seventh Street, SW., Room 7262, Washington, DC 20410, telephone (202) 708-4300.

• Regulation: 24 CFR 576.106(d)(1).

Project/Activity: HUD granted a waiver of 24 CFR 576.106(d)(1) to States, the Commonwealth of Puerto Rico, the U.S. Virgin Islands, and other ESG recipients located in the counties and county equivalents (islands of the U.S. Virgin Islands and municipalities of Puerto Rico) designated in the following major disaster declarations: FEMA-DR-4322, FEMA-DR-4335, FEMA-DR-4336, FEMA-DR-4337, FEMA-DR-4338, FEMA-DR-4339, FEMA-DR-4340. The waiver allows grantees and their subrecipients to provide rental assistance for units for which the total rent exceeds the Fair Market Rent (FMR) established by HUD, as provided under 24 CFR part 888. The FMR restriction is waived for any rent amount that takes effect during the two-year period beginning on the date of the waiver memorandum (October 13, 2017) for any individual or family who is renting or executes a lease for a unit in a declared-disaster area and has registered with FEMA. However, the affected recipients and their subrecipients must still ensure that the units in which ESG assistance is provided to these individuals and families meet the rent reasonableness standard.

Nature of Requirement: Under 24 CFR 576.106(d)(1), rental assistance cannot be provided unless the total rent is equal to or less than the FMR established by HUD, as provided under 24 CFR part 888, and complies with HUD's standard of rent reasonableness, as established under 24 CFR 982.507.

Granted By: Neal Rackleff, Assistant Secretary for Community Planning and Development.

Date Granted: October 13, 2017.

Reason Waived: HUD granted the waiver to facilitate assistance to individuals and families affected by Hurricanes Harvey, Irma, and Maria. Specifically, HUD determined that the rental vacancy rate in affected areas after the floods is extraordinarily low, and waiving the FMR restriction would make more units available to individuals and families in need of permanent housing. The waiver was conditioned on each ESG recipient providing HUD advance written notice of the declared disaster areas in which the recipient would use the waiver and the date on which the recipient planned to begin using the waiver.

Contact: Norm Suchar, Director, Office of Special Needs Assistance Programs, Office of Community Planning and Development, Department of Housing and Urban Development, 451 Seventh Street, SW., Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 219.220(b).

Project/Activity: Westerly II Apartments, FHA Project Number 042-SH023, Lakewood, Ohio. Lakewood Senior Citizens, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Dana T. Wade, Principal Deputy Assistant Secretary for Housing.

Date Granted: December 20, 2017.

Reason Waived: The owner requested and was granted a waiver of the requirement to repay the Flexible Subsidy Operating Assistance Loan in full when it became due. Deferring the loan payment will preserve this affordable housing resource for an additional 20 years through the execution and recordation of a Rental Use Agreement.

Contact: Crystal Martinez, Senior Account Executive, Office of Housing, Department of Housing and Urban Development, 451 Seventh Street, SW, Room 6174, Washington, DC 20410-8000, telephone: (202) 402-3718.

• Regulation: 24 CFR 232.7.

Project/Activity: Countryhouse-Kensington Algonquin, FHA Project Number 052-22110, is an assisted living facility serving memory care residents. The facility does not meet the requirements of 24 CFR 232.7 “Bathroom” of FHA's regulations in the memory care units. The project is located in Cumberland, Maryland.

Nature of Requirement: The regulation at 24 CFR 232.7 mandates in a board and care home or assisted living facility that not less than one full bathroom must be provided for every four residents. Also, the bathroom cannot be accessed from a public corridor or area.

Granted By: Dana T. Wade, General Deputy Assistant Secretary for Housing.

Date Granted: October 25, 2017.

Reason Waived: The project has 15 memory care units, with 22 beds. Each unit has a half-bathroom, with access to a shower room down a secured hallway. The resident to shower ratio is 5.5: 1. The memory care residents require assistance with bathing. The project meets the State of Maryland's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 891.100(d).

Project/Activity: Pollywog Creek Senior Housing, Labelle, Hendry County, FL, Project Number: 066EE120/FL29-S101-006. The owner requested to restore the undisbursed funds to project to the original Capital Advance amount to complete the construction after the Capital Advance had expired. The project is only 75% complete.

Nature of Requirement: Section 891.100(d) prohibits amendment of the amount of the approved capital advance funds prior to closing. Subject to the availability of funds, HUD may amend the amount of an approved capital advance only after initial closing has occurred.

Granted By: Dana T. Wade, General Deputy Assistant Secretary for Housing-Federal Housing Commissioner.

Date Granted: December 15, 2017.

Reason Waived: The owner requested and granted a waiver to restore the Capital Advance to complete construction of the project. The project is economically designed and comparable in cost to similar projects in the area, and the sponsor/owner has exhausted all efforts to obtain additional funding from other sources.

Contact: Alicia Anderson, Branch Chief, Grants and New Funding, Office of Housing, Department of Housing and Urban Development, 451 Seventh Street, SW, Room 6138, Washington, DC 20410, telephone (202) 402-5787.

• Regulation: 24 CFR 891.100(d).

Project/Activity: VOA Living Center of Lake City, Lake City, FL, Project Number: O63HD030/FL29-Q101-004. The owner requested an increase in the Capital Advance to cover the increase in construction costs.

Nature of Requirement: Section 891.100(d) prohibits amendment of the amount of the approved capital advance funds prior to closing. Subject to the availability of funds, HUD may amend the amount of an approved capital advance only after initial closing has occurred.

Granted By: Dana T. Wade, General Deputy Assistant Secretary for Housing-Federal Housing Commissioner.

Date Granted: December 15, 2017.

Reason Waived: The owner requested and granted a waiver to increase the capital advance for the subject project. The project is economically designed and comparable in cost to similar projects in the area, and the sponsor/owner has exhausted all efforts to obtain additional funding from other sources.

Contact: Alicia Anderson, Branch Chief, Grants and New Funding, Office of Housing, Department of Housing and Urban Development, 451 Seventh Street, SW, Room 6138, Washington, DC 20410, telephone (202) 402-5787.

• Regulation: 24 CFR 891.100(d).

Project/Activity: J. Michael Fitzgerald Apartments, Chicago, IL. Project Number: 071-EE25520/IL06-S101-016.

Nature of Requirement: Section 891.100(d) prohibits amendment of the amount of the approved capital advance funds prior to closing.

Granted By: Dana T. Wade, General Deputy Assistant Secretary for Housing-Federal Housing Commissioner.

Date Granted: December 15, 2017

Reason Waived: The project is economically designed and comparable in cost to similar projects in the area, and the sponsor/owner has exhausted all efforts to obtain additional funding from other sources.

Contact: Alicia Anderson, Branch Chief, Grants and New Funding, Office of Housing, Department of Housing and Urban Development, 451 Seventh Street, SW, Room 6138, Washington, DC 20410, telephone (202) 402-5787.

• Regulation: 24 CFR 891.165.

Project/Activity: Bill Sorro Community, San Francisco, CA. Project Number: 121-HD097/CA39-Q101-003.

Nature of Requirement: Section 891.165 provides that the duration of the fund reservation of the capital advance is 18-months from the date of issuance with limited exceptions up to 36 months, as approved by HUD on a case-by-case basis.

Granted By: Dana T. Wade, General Deputy Assistant Secretary for Housing-Federal Housing Commissioner.

Date Granted: December 15, 2017

Reason Waived: Additional time was needed for the Sponsor to facilitate the completion of necessary development processes for this Capital Advance Upon Completion project. Time delays were associated with the coordination of different complexities of funding sources and construction delays.

Contact: Alicia Anderson, Branch Chief, Grants and New Funding, Office of Housing, Department of Housing and Urban Development, 451 Seventh Street, SW, Room 6138, Washington, DC 20410, telephone (202) 402-5787.

• Regulation: 24 CFR 891.165.

Project/Activity: Mercy Arc Housing-1500 Page Street, San Francisco, CA. Project Number: 121-HD099/CA39-Q101-005.

Nature of Requirement: Section 891.165 provides that the duration of the fund reservation of the capital advance is 18-months from the date of issuance with limited exceptions up to 36 months, as approved by HUD on a case-by-case basis.

Granted By: Dana T. Wade, General Deputy Assistant Secretary for Housing—Federal Housing Commissioner.

Date Granted: December 15, 2017.

Reason Waived: Additional time was needed for the Sponsor to facilitate the completion of necessary development processes for this Capital Advance Upon Completion project. Time delays were associated with the coordination of different complexities of funding sources and construction delays.

Contact: Alicia Anderson, Branch Chief, Grants and New Funding, Office of Housing, Department of Housing and Urban Development, 451 Seventh Street, SW, Room 6138, Washington, DC 20410, telephone (202) 402-5787.

IV. Regulatory Waivers Granted by the Office of Public and Indian Housing

For further information about the following regulatory waivers, please see the name of the contact person that immediately follows the description of the waiver granted.

• Regulation: 2 CFR 200.311(c)(1).

Project/Activity: The New York City Housing Authority (NYCHA) requested that HUD grant it an exception from the requirement at 2 CFR 200.311(c)(1) to compensate HUD for HUD's percentage of participation in the costs of the Baychester and Murphy public housing properties. This request was made pursuant to a request by NYCHA to retain these properties (outside of public housing requirements) under 2 CFR 200.311. NYCHA (and these properties) are located in New York, NY.

Nature of Requirement: 2 CFR 200.311(c)(1) states that “[w]hen real property is no longer needed for the originally authorized purpose,” HUD must provide disposition instructions whereby a non-Federal entity (in this case, a Public Housing Agency (PHA)) can retain title after compensating HUD. “The amount paid to [HUD] will be computed by applying [HUD's] percentage of participating in the cost of the original purchase (and costs of any improvements) to the fair market value of the property.”

Granted By: Dominique Blom, General Deputy Assistant Secretary, Public and Indian Housing, granted this exception pursuant to 2 CFR 200.102(b). Under this authority, HUD has the authority to grant requests to the compensation requirement of 2 CFR 200.311(c)(1) on a case-by-case basis.

Date Granted: December 1, 2017.

Reason Waived: NYCHA did not use public housing funds to acquire the Baychester and Murphy properties. HUD's percentage of participation in the cost of the Baychester and Murphy properties was 11.1% and 7.7%. NYCHA justified its request for the exception to compensate HUD on its intent to operate the properties as affordable housing outside of the public housing program. Specifically, NYCHA indicated it would add all units at these properties to a Section 8 project-based voucher (PBV) HAP that was executed on March 16, 2010 that was already in effect for others unit at the properties. HUD granted this request based on the continued future use of the properties as housing for low-income families through the PBV program and the relatively low percentage of HUD funds in these properties. HUD's approval required NYCHA to record a 40-year use restriction against the properties that required the properties to be operated as Section 8 PBV housing for low-income families.

Contact: Susan A. Wilson, Acting Deputy Assistant Secretary, Office of Public Housing Investments, Department of Housing and Urban Development, 451 Seventh Street SW, Room 4130, Washington, DC 20410, telephone (202) 402-4500.

• Regulation: 24 CFR 5.801(c) and 24 CFR 5.801(d)(1).

Project/Activity: Municipality of Bayamon (RQ011).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The HA serves Section 8 Families in Bayamon and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Puerto Rico Housing Finance Corp (RQ911).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 8, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Section 8 Families in Puerto Rico and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8(c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Orocovis (RQ080).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Orocovis and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Toa Baja (RQ022).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Toa Baja and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Arecibo (RQ020).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Arecibo and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Guaynabo (RQ016).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 8, 2017.

Reason Waived: The Municipality requested “Relief from HUD Requirements Available to PHAs to Assist With Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Guaynabo and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Carolina (RQ014).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Carolina and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Ponce (RQ008).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Ponce and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Ciales (RQ052).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 9, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The HA serves Section 8 Families in Ciales and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Puerto Rico Department of Housing (RQ901).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 9, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Section 8 Families in Puerto Rico and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Villalba (RQ049).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 14, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality, Section 8 only, serves Housing Choice Voucher Families in Villalba and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Juncos (RQ077).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 21, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Juncos and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c), 24 CFR 5.801(d)(1) and 24 CFR 902.

Project/Activity: Puerto Rico Public Housing Administration (RQ005).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 21, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Public Housing Families in Puerto Rico and will use the requested flexibilities to better assist families displaced by the recent natural disasters. The audited financial approval only permits the extension for filing. This FASS audited financial submission extension does not apply to Single Audit submissions to the Federal Audit Clearinghouse; the HA is required to meet the Single Audit due date. The HA is waived from FYE June 30, 2017, physical inspection. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c), 24 CFR 5.801(d)(1) and 24 CFR 902.

Project/Activity: Puerto Rico Public Housing Administration (RQ005).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 21, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Public Housing Families in Puerto Rico and will use the requested flexibilities to better assist families displaced by the recent natural disasters. The audited financial approval only permits the extension for filing. This FASS audited financial submission extension does not apply to Single Audit submissions to the Federal Audit Clearinghouse; the HA is required to meet the Single Audit due date. The HA is waived from FYE June 30, 2017, physical inspection. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 902.

Project/Activity: Port Lavaca Housing Authority (TX395).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 21, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category C of the applicable Major Disaster Declaration. The HA serves Public Housing and Section 8 Families in Port Lavaca, and will use the requested flexibilities to better assist families displaced by the recent natural disasters. The audited financial approval only permits the extension for filing. This FASS audited financial submission extension does not apply to Single Audit submissions to the Federal Audit Clearinghouse; the HA is required to meet the Single Audit due date. HA is waived from FYE June 30, 2017 and June 30, 2018, physical inspections. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c), 24 CFR 5.801(d)(1) and 24 CFR 902.

Project/Activity: Puerto Rico Public Housing Administration (RQ005).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 21, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Public Housing Families in Puerto Rico and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2017, physical inspection. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c), 24 CFR 5.801(d)(1) and 24 CFR 902.

Project/Activity: Miami-Dade Housing and Community Development (FL005).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 22, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Public Housing and Section 8 Families in Miami-Dade, and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2018, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Cidra (RQ062).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 22, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Cidra and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c), 24 CFR 5.801(d)(1) and 24 CFR 902.

Project/Activity: Virgin Islands Housing Authority (VQ001, VQ901).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 22, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricanes Irma and Maria, and located in Category B and C of the applicable Major Disaster Declaration. The HA serves Public Housing and Section 8 Families in the U.S. Virgin Islands and will use the requested flexibilities to better assist families displaced by the recent natural disasters. The audited financial approval only permits the extension of filing audited financial information for 12 months. This FASS audited financial submission extension does not apply to Single Audit submissions to the Federal Audit Clearinghouse; the HA is required to meet the Single Audit due date. The HA is waived from FYE December 31, 2018, physical inspections. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Naranjito (RQ064).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: November 29, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Naranjito and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Canovanas (RQ075).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 5, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Canovanas and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Cayey (RQ018).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 7, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Puerto Rico and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Sabastian (RQ026).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 7, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Sebastian and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Gurabo (RQ041).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 7, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Puerto Rico and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Aguada (RQ073).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 7, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Puerto Rico and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c), 24 CFR 5.801(d)(1) and 24 CFR 902.

Project/Activity: Houston Housing Authority (TX005).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 7, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Public Housing and Housing Choice Voucher Families in Houston, and will use the requested flexibilities to better assist families displaced by the recent natural disasters. The audited financial approval only permits the extension for filing. This FASS audited financial submission extension does not apply to Single Audit submissions to the Federal Audit Clearinghouse; the HA is required to meet the Single Audit due date. The HA is waived from FYE December 31, 2017, physical inspection. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Las Piedras (RQ063).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 8, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Las Piefras and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Aibonito (RQ059).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 11, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Public Housing Families in Puerto Rico and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Deerfield Beach Housing Authority (FL081).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Public Housing and Housing Choice Voucher Families in Deerfield Beach and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Mayaguez (RQ009).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Mayaguez and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Moca (RQ010).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Moca and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Manati (RQ028).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Puerto Rico and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Comerio (RQ034).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Comerio and will use the requested flexibilities to better assist families displaced by the recent natural disasters. The audited financial approval only permits the extension for filing. This FASS audited financial submission extension does not apply to Single Audit submissions to the Federal Audit Clearinghouse; the HA is required to meet the Single Audit due date. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Florida (RQ072).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 12, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Florida and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Hatillo (RQ039).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 13, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Section 8 Families in Hatillo and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Ingleside Housing Authority (TX317).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 19, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Housing Choice Voucher Families in Ingleside and will use the requested flexibilities to better assist families displaced by the recent natural disasters. The audited financial approval only permits the extension for filing. This FASS audited financial submission extension does not apply to Single Audit submissions to the Federal Audit Clearinghouse; the HA is required to meet the Single Audit due date. The HA is waived from FYE December 31, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c), 24 CFR 5.801(d)(1) and 24 CFR 902.

Project/Activity: Municipality of Camuy (RQ040).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricanes Irma and Maria located in Category A of the applicable Major Disaster Declaration. The Municipality serves Housing Choice Voucher Families in Camuy, and will use the requested flexibilities to better assist families displaced by the recent natural disasters. The audited financial approval only permits the extension for filing. This FASS audited financial submission extension does not apply to Single Audit submissions to the Federal Audit Clearinghouse; the HA is required to meet the Single Audit due date. The HA is waived from FYE June 30, 2017, physical inspection. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Lajas (RQ071).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Lajas and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Barceloneta (RQ054).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Barceloneta and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Luquillo (RQ081).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Luquillo and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Vieques (RQ074).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category B of the applicable Major Disaster Declaration. The Municipality serves Housing Choice Voucher Families in Vieques and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Lares (RQ065).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Lares and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Cabo Rojo (RQ061).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 19, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Puerto Rico and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Dorado (RQ015).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 28, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Dorado and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Guayanilla (RQ021).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 28, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Guayanilla and will use the requested flexibilities to better assist families displaced by the recent natural disasters. The audited financial approval only permits the extension for filing. This FASS audited financial submission extension does not apply to Single Audit submissions to the Federal Audit Clearinghouse; the HA is required to meet the Single Audit due date. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Municipality of Aguas Buenas (RQ082).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 28, 2017.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Aguas Buenas and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 5.801(c) and 24 CFR 5.801(d)(1).

Project/Activity: Housing Authority of Pompano Beach (FL028).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: December 28, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category C of the applicable Major Disaster Declaration. The HA serves Housing Choice Voucher Families in Pompano Beach and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: St. Petersburg Housing Authority (FL002).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 6, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Section 8 Families in Florida and will use the requested flexibilities to better assist families displaced by the recent natural disasters. The audited financial approval only permits the extension for filing. This FASS audited financial submission extension does not apply to Single Audit submissions to the Federal Audit Clearinghouse; the HA is required to meet the Single Audit due date. The HA is waived from FYE December 31, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Housing Authority of the City of Beaumont (TX023).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 6, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Public Housing and Section 8 Families in Texas and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Deep East Texas Council of Governments (TX512).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 21, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Section 8 Families in Texas, and will use the requested flexibilities to better assist families displaced by the recent natural disasters. The audited financial approval only permits the extension for filing. This FASS audited financial submission extension does not apply to Single Audit submissions to the Federal Audit Clearinghouse; the HA is required to meet the Single Audit due date. HA is waived from FYE June 30, 2017, physical inspections. Additionally, HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Winter Haven Housing Authority (FL139).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: November 29, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Public Housing and Section 8 Families in Winter Haven, and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2018, physical inspection. Additionally, the HA is waived from Notice PIH 2012-10 Section 8 (c) (Verification of the Social Security Number (SSN)) (REAC-EIV).

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Housing Authority of the City of Miami Beach (FL017).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 5, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Public Housing Families in Florida, and will use the requested flexibilities to better assist families displaced by the recent natural disasters. The audited financial approval only permits the extension for filing. This FASS audited financial submission extension does not apply to Single Audit submissions to the Federal Audit Clearinghouse; the HA is required to meet the Single Audit due date. The HA is waived from FYE June 30, 2018, physical inspections.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Aransas Pass Housing Authority (TX313).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 7, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Public Housing and Section 8 Families in Texas, and will use the requested flexibilities to better assist families displaced by the recent natural disasters. The audited financial approval only permits the extension for filing. This FASS audited financial submission extension does not apply to Single Audit submissions to the Federal Audit Clearinghouse; the HA is required to meet the Single Audit due date. The HA is waived from FYE March 31, 2018, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Goliad Housing Authority (TX510).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 11, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Maria and located in Category A of the applicable Major Disaster Declaration. The HA serves Section 8 Families in Texas and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Gregory Housing Authority (TX302).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 12, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Housing Choice Voucher and Public Housing Families in Gregory and will use the requested flexibilities to better assist families displaced by the recent natural disasters. The audited financial approval only permits the extension for filing. This FASS audited financial submission extension does not apply to Single Audit submissions to the Federal Audit Clearinghouse; the HA is required to meet the Single Audit due date. The HA is waived from FYE March 31, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Palm Beach County Housing Authority (FL080).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 12, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Housing Choice Voucher and Public Housing Families in Palm Beach and will use the requested flexibilities to better assist families displaced by the recent natural disasters. The audited financial approval only permits the extension for filing. This FASS audited financial submission extension does not apply to Single Audit submissions to the Federal Audit Clearinghouse; the HA is required to meet the Single Audit due date. The HA is waived from FYE September 30, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 902.

Project/Activity: Ingleside Housing Authority (TX317).

Nature of Requirement: The regulation establishes certain reporting compliance dates. The audited financial statements are required to be submitted to the Real Estate Assessment Center (REAC) no later than nine months after the housing authority's (HA) fiscal year end (FYE), in accordance with the Single Audit Act and OMB Circular A-133. Physical inspections are required to ensure that public housing units are decent, safe, sanitary and in good repair, as determined by an inspection conducted in accordance with HUD's Uniform Physical Condition Standards (UPCS). Baseline inspections will have all properties inspected regardless of previous PHAS designation or physical inspection scores.

Granted By: Dominique Blom, General Deputy Assistant Secretary for Public and Indian Housing.

Date Granted: December 19, 2017.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category A of the applicable Major Disaster Declaration. The HA serves Housing Choice Voucher Families in Ingleside and will use the requested flexibilities to better assist families displaced by the recent natural disasters. The audited financial approval only permits the extension for filing. This FASS audited financial submission extension does not apply to Single Audit submissions to the Federal Audit Clearinghouse; the HA is required to meet the Single Audit due date. The HA is waived from FYE December 31, 2017, physical inspection.

Contact: Dee Ann R. Walker, Acting Program Manager, NASS, Real Estate Assessment Center, Office of Public and Indian Housing, Department of Housing and Urban Development, 550 12th Street, SW, Suite 100, Washington, DC 20410, telephone (202) 475-7908.

• Regulation: 24 CFR 903.5.

Project/Activity: Public Housing Agency (PHA) Plans.

Nature of Requirement: A PHA must submit the PHA Plan to HUD no later than 75 days before the commencement of the PHA's fiscal year.

Granted By: General Deputy Assistant Secretary for Public and Indian Housing

Date Granted: November 6, 2017.

Reason Waived: The PHA offices and public housing units were destroyed due to flooding by Hurricane Matthew, Presidential Disaster Declaration DR-4285.

Contact: Monica Shepherd, Public Housing Management and Occupancy Division, Office of Public Housing and Voucher Programs, Office of Public and Indian Housing, Department of Housing and Urban Development, 451 Seventh Street, SW, Room 4208, Washington, DC 20410, telephone (202) 402-5687.

• Regulation: 24 CFR 982.161(a)(3) and 24 CFR 982.161(c).

Project/Activity: Lafayette Housing Authority (LHA) in Lafayette, Louisiana, requested a waiver for HUD to continue HAP payments for a housing choice voucher unit.

Nature of Requirement: The regulation 24 CFR § 982.161(a)(3), states that neither the PHA nor any of its contractors or subcontractors may enter into any contract or arrangement in connection with the tenant-based programs with any public official, member of a governing body, or state or local legislator, who exercises functions or responsibilities with respect to the programs. However, the regulation 24 CFR 982.161(c), allows the conflict of Interest prohibition to be waived by the Department for good cause.

Granted By: Dominique Blom, General Deputy Assistant Secretary for Public and Indian Housing.

Date Granted: October 10, 2017.

Reason Waived: HUD evaluated the good cause presented in this case being the financial and physical hardship of requiring the family to move and also the agency's attempt to resolve the conflict.

Contact: Becky Primeaux, Housing Voucher Management and Operations Division, Office of Public Housing and Voucher Programs, Office of Public and Indian Housing, Department of Housing and Urban Development, 451 Seventh Street, SW, Room 4216, Washington, D.C. 20410, telephone (202) 708-0477.

• Regulation: 24 CFR 982.505(d).

Project/Activity: Grays Harbor County (HAGHC) in Aberdeen, Washington, requested a waiver for HUD to approve an exception payment standard of 157 percent of the one-bedroom FMR as a reasonable accommodation under its HCV Program.

Nature of Requirement: The regulation, 24 CFR 982.505(d) states that the PHA may establish an exception payment standard of not more than 120 percent of the published FMR if required as a reasonable accommodation for a family that includes a person with a disability.

Granted By: Dominique Blom, General Deputy Assistant Secretary for Public and Indian Housing.

Date Granted: October 19, 2017.

Reason Waived: This regulation was waived as a reasonable accommodation to allow a disabled participant to receive housing assistance and pay no more than 40 percent of its adjusted income toward the family share.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 982.505(d).

Project/Activity: Napa Housing Authority (NHA) in Napa, California, requested a waiver for HUD to approve an exception payment standard of 125 percent of the FMR as a reasonable accommodation under its HCV Program.

Nature of Requirement: The regulation, 24 CFR 982.505(d) states that the PHA may establish an exception payment standard of not more than 120 percent of the published FMR if required as a reasonable accommodation for a family that includes a person with a disability.

Granted By: Dominique Blom, General Deputy Assistant Secretary for Public and Indian Housing.

Date Granted: October 31, 2017.

Reason Waived: This regulation was waived as a reasonable accommodation to allow a disabled participant to receive housing assistance and pay no more than 40 percent of its adjusted income toward the family share.

Contact: Becky Primeaux, Director, Housing Voucher Management and Operations Division, Office of Public Housing and Voucher Programs, Office of Public and Indian Housing, Department of Housing and Urban Development, 451 Seventh Street, SW, Room 4216, Washington, DC. 20410, telephone (202) 708-0477.

• Regulation: 24 CFR 982.505(d).

Project/Activity: Glendale Housing Authority in Glendale, California, requested a waiver for HUD to approve an exception payment standard of 137 percent of the one-bedroom FMR as a reasonable accommodation under its HCV program.

Nature of Requirement: The regulation, 982.505(d) states that the PHA may establish an exception payment standard of not more than 120 percent of the published FMR if required as a reasonable accommodation for a family that includes a person with a disability.

Granted By: Dominique Blom, General Deputy Assistant Secretary for Public and Indian Housing.

Date Granted: November 29, 2017.

Reason Waived: This regulation was waived as a reasonable accommodation to allow a disabled participant to receive housing assistance and pay no more than 40 percent of its adjusted income toward the family share.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 982.505(d).

Project/Activity: San Diego Housing Commission (SDHC) in San Diego, California.

Nature of Requirement: The regulation, 24 CFR § 982.505(d), states that the PHA may establish an exception payment standard of not more than 120 percent of the published FMR if required as a reasonable accommodation for a family that includes a person with a disability.

Granted By: Dominique Blom, General Deputy Assistant Secretary for Public and Indian Housing.

Date Granted: November 29, 2017.

Reason Waived: This regulation was waived as a reasonable accommodation to allow a disabled participant to receive housing assistance and pay no more than 40 percent of its adjusted income toward the family share.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 982.517 and 983.301(f)(2)(ii).

Project/Activity: Leeds Housing Authority (LHA) in Leeds, Alabama, requested a waiver of these regulations so that the LHA could establish a site-specific utility allowance schedule for a property converting to project-based vouchers under the the Rental Assistance Demonstration (RAD) program.

Nature of Requirement: The regulation, 24 CFR 982.517, states that the PHA must maintain a utility allowance schedule for all tenant-paid utilities (except telephone) for cost of tenant-supplied refrigerators and ranges, and for other tenant-paid housing services. The regulation at 24 CFR 983.301(f(2)(ii) states that the PHA may not establish or apply a different utility allowance amount for the project-based voucher (PBV) program. The same PHA utility allowance schedule applies to both the tenant-based and PBV programs.

Granted By: Dominique Blom, General Deputy Assistant Secretary for Public and Indian Housing.

Date Granted: December 5, 2017.

Reason Waived: The LHA demonstrated that the utility allowance provided under the HCV program would discourage energy conservation and ultimately lead to inefficient use of HAP funds for RAD projects.

Contact: Becky Primeaux, Housing Voucher Management and Operations Division, Office of Public Housing and Voucher Programs, Office of Public and Indian Housing, Department of Housing and Urban Development, 451 Seventh Street, SW, Room 4216, Washington, DC 20410, telephone (202) 708-0477.

• Regulation: 24 CFR 983.55(b).

Project/Activity: Housing Authority of Jackson County (HAJC) in Medford, Oregon, requested a waiver of these regulations so that the conjoining property owner may begin pre-construction activities that affect and benefit the future of the HAJC.

Nature of Requirement: The regulation, 983.55(b), states the PHA may not enter into an Agreement of Housing Assistance Payments (HAP) contract until HUD or a Housing credit agency approved by HUD has conducted any required Subsidy Layering review (SLR) and determined that the PBV assistance is in accordance with HUD's SLR requirements

Granted By: Dominique Blom, General Deputy Assistant Secretary for Public and Indian Housing.

Date Granted: December 5, 2017.

Reason Waived: The regulation was waived to permit the HAJC to execute an AHAP for the subject project prior to the completion of the Subsidy Layering Review so pre-construction activities could ensue.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 983.301(f)(2)(ii) and 24 CFR 982.17.

Project/Activity: Eloy Housing Authority (EHA) in Eloy, Arizona, requested a waiver to establish a site-specific utility allowance within a RAD conversion site.

Nature of Requirement: The regulation, 24 CFR 982.517, states that the PHA must maintain a utility allowance schedule for all tenant-paid utilities (except telephone) for cost of tenant-supplied refrigerators and ranges, and for other tenant-paid housing services. The regulation at 24 CFR 983.301(f(2)(ii) states that the PHA may not establish or apply a different utility allowance amount for the project-based voucher (PBV) program. The same PHA utility allowance schedule applies to both the tenant-based and PBV programs.

Granted By: Dominique Blom, General Deputy Assistant Secretary for Public and Indian Housing.

Date Granted: November 2, 2017.

Reason Waived: The EHA demonstrated that the utility allowance provided under the HCV program would discourage energy conservation and efficient use of HAP funds for the RAD project.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 983.305(c)(4).

Project/Activity: Northwest Oregon Housing Authority (NOHA) in Warrenton, Oregon, requested a waiver so it may pay a landlord who failed to execute two housing assistance payments (HAP) contracts within the required 60-day time period.

Nature of Requirement: 24 CFR § 983.305(c)(4) states that any HAP contract executed after 60 days from the beginning of the lease term is void, and the PHA may not pay any HAP to the owner.

Granted By: Dominique Blom, General Deputy Assistant Secretary for Public and Indian Housing.

Date Granted: October 3, 2017.

Reason Waived: The PHA demonstrated good cause to waive this regulation and approval of this request prevented significant financial and physical hardship to the families under lease, HUD.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR § 985.101(a).

Project/Activity: Housing Authority of Bexar County (HABC) in San Antonio, Texas, requested a waiver for HUD to approve their SEMAP certification submission after the end of the fiscal year.

Nature of Requirement: The regulation at 24 CFR § 985.101(a), states that PHA must submit the HUD-required SEMAP certification form within 60 calendar days after the end of the fiscal year.

Granted By: Dominique Blom, General Deputy Assistant Secretary for Public and Indian Housing.

Date Granted: November 29, 2017.

Reason Waived: Due to Hurricane Harvey the HABC reprioritized their efforts to pre- and post-disaster activities.

Contact: Becky Primeaux, Director, Housing Voucher Management and Operations Division, Office of Public Housing and Voucher Programs, Office of Public and Indian Housing, Department of Housing and Urban Development, 451 Seventh Street, SW, Room 4216, Washington, DC 20410, telephone (202) 708-0477.

• Regulation: 24 CFR 985.101(a).

Project/Activity: Boley Center Housing Agency (BCHA) in Saint Petersburg, Florida, requested a waiver for HUD to approve their SEMAP certification submission after the end of the fiscal year.

Nature of Requirement: The regulation, 24 CFR § 985.101(a), states that PHA must submit the HUD-required SEMAP certification form within 60 calendar days after the end of the fiscal year.

Granted By: Dominique Blom, General Deputy Assistant Secretary for Public and Indian Housing.

Date Granted: November 29, 2017.

Reason Waived: Du5678e to unexpected staffing issues as well as system related issues, BCHA was not able to submit their SEMAP before the deadline. Approval of this waiver prevents the waste of staff resources and funding needed to complete corrective actions plans and conduct site visits at an agency that does not have compliance related issues.

Contact: Becky Primeaux, Housing Voucher Management and Operations Division, Office of Public Housing and Voucher Programs, Office of Public and Indian Housing, Department of Housing and Urban Development, 451 Seventh Street, S., Room 4216, Washington, DC 20410, telephone (202) 708-0477.

[FR Doc. 2018-07488 Filed 4-10-18; 8:45 am]

BILLING CODE 4210-67-P